DEPARTMENT OF THE INTERIOR

Fish and Wildlife Service

50 CFR Part 17

[4500090022]

Endangered and Threatened Wildlife and Plants; 12-Month Findings on Petitions to List 13 Species as Endangered or Threatened Species

AGENCY: Fish and Wildlife Service, Interior.

ACTION: Notice of 12-month petition findings.

SUMMARY: We, the U.S. Fish and Wildlife Service (Service), announce 12-month findings on petitions to list 13 species as endangered or threatened species under the Endangered Species Act of 1973, as amended (Act). After a thorough review of the best available scientific and commercial information, we find that it is not warranted at this time to list the Cedar Key mole skink, Florida sandhill crane, Fremont County rockcress, Frisco buckwheat, Ostler's peppergrass, Frisco clover, MacGillivray's seaside sparrow, Ozark pyrg, pale blue-eyed grass, San Joaquin Valley giant flower-loving fly, striped newt, Tinian monarch, and Tippecanoe darter. However, we ask the public to submit to us at any time any new information that becomes available relevant to the status of any of the species mentioned above or their habitats.

DATES: The findings in this document were made on December 19, 2018.

ADDRESSES: Detailed descriptions of the basis for each of these findings are available on the internet at http://www.regulations.gov under the following docket numbers:

Species | Docket No.
Cedar Key mole skink | FWS-R4-ES-2015-0047
Florida sandhill crane | FWS-R4-ES-2018-0099
Fremont County rockcress | FWS-R6-ES-2018-0049
Frisco buckwheat, Ostler's peppergrass, and Frisco clover | FWS-R6-ES-2018-0100
MacGillivray's seaside sparrow | FWS-R4-ES-2018-0067
Ozark pyrg | FWS-R4-ES-2018-0101
Pale blue-eyed grass | FWS-R1-ES-2018-0102
San Joaquin Valley giant flower-loving fly | FWS-R8-ES-2015-0023
Striped newt | FWS-R4-ES-2018-0065
Tinian monarch | FWS-R1-ES-2018-0103
Tippecanoe darter | FWS-R5-ES-2018-0066

Supporting information used to prepare these findings is available for public inspection, by appointment, during normal business hours, by contacting the appropriate person, as specified under FOR FURTHER INFORMATION CONTACT. Please submit any new information, materials, comments, or questions concerning these findings to the appropriate person, as specified under FOR FURTHER INFORMATION CONTACT.

FOR FURTHER INFORMATION CONTACT:

Species | Contact information
Cedar Key mole skink | Jay Herrington, Field Supervisor, North Florida Ecological Services Field Office, 904-731-3191.
Florida sandhill crane | Jay Herrington, Field Supervisor, North Florida Ecological Services Field Office, 904-731-3191.
Fremont County rockcress | Tyler Abbot, Project Leader, Wyoming Ecological Services Field Office, 307-772-2374, ext. 231.
Frisco buckwheat, Ostler's peppergrass, and Frisco clover | Jennifer Lewinsohn, Biologist, Utah Ecological Services Field Office, 801-597-8352.
MacGillivray's seaside sparrow | Thomas McCoy, Field Supervisor, South Carolina Ecological Services Field Office, 843-300-0431.
Ozark pyrg | Melvin Tobin, Field Supervisor, Arkansas Ecological Services Field Office, 501- 513-4473.
pale blue-eyed grass | Karen Reagan, Biologist, Washington Fish and Wildlife Office, 360-753-7762.
San Joaquin Valley giant flower-loving fly | Josh Hull, Recovery and Listing Division Chief, Sacramento Fish and Wildlife Office, 916-414-6742.
striped newt | Jay Herrington, Field Supervisor, Northeast Florida Ecological Services Field Office, 904-731-3191.
Tinian monarch | Mary Abrams, Field Supervisor, Pacific Islands Fish and Wildlife Office, 808-792-9400.
Tippecanoe darter | Robert Anderson, Field Supervisor, Pennsylvania Field Office, 814-234-4090, ext. 7447.

If you use a telecommunications device for the deaf (TDD), please call the Federal Relay Service at 800-877-8339.

SUPPLEMENTARY INFORMATION:

Background

We are required to make a finding whether or not the petitioned action is warranted within 12 months after receiving any petition we determined contained substantial scientific or commercial information indicating that the petitioned action may be warranted (section 4(b)(3)(B) of the Act (16 U.S.C. 1531 et seq.)) (“12-month finding”). We must make a finding that the petitioned action is: (1) Not warranted; (2) warranted; or (3) warranted but precluded. “Warranted but precluded” means that (a) the petitioned action is warranted, but the immediate proposal of a regulation implementing the petitioned action is precluded by other pending proposals to determine whether species are endangered or threatened species, and (b) expeditious progress is being made to add qualified species to the Lists of Endangered and Threatened Wildlife and Plants (Lists) and to remove from the Lists species for which the protections of the Act are no longer necessary. Section 4(b)(3)(C) of the Act requires that we treat a petition for which the requested action is found to be warranted but precluded as though resubmitted on the date of such finding, that is, requiring that a subsequent finding be made within 12 months of that date. We must publish these 12-month findings in the Federal Register.

Summary of Information Pertaining to the Five Factors

Section 4 of the Act (16 U.S.C. 1533) and the implementing regulations at part 424 of title 50 of the Code of Federal Regulations (50 CFR part 424) set forth procedures for adding species to, removing species from, or reclassifying species on the Lists. The Act defines “endangered species” as any species that is in danger of extinction throughout all or a significant portion of its range (16 U.S.C. 1532(6)), and “threatened species” as any species that is likely to become an endangered species within the foreseeable future throughout all or a significant portion of its range (16 U.S.C. 1532(20)). Under section 4(a)(1) of the Act, a species may be determined to be an endangered species or a threatened species because of any of the following five factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

In considering whether a species may meet the definition of an endangered species or a threatened species because of any of the five factors, we must look beyond the mere exposure of the species to the stressor to determine whether the species responds to the stressor in a way that causes actual impacts to the species. If there is exposure to a stressor, but no response, or only a positive response, that stressor does not cause a species to meet the definition of an endangered species or a threatened species. If there is exposure and the species responds negatively, we determine whether that stressor drives or contributes to the risk of extinction of the species such that the species warrants listing as an endangered or threatened species. The mere identification of stressors that could affect a species negatively is not sufficient to compel a finding that listing is or remains warranted. For a species to be listed or remain listed, we require evidence that these stressors are operative threats to the species and its habitat, either singly or in combination, to the point that the species meets the definition of an endangered or a threatened species under the Act.

In conducting our evaluation of the five factors provided in section 4(a)(1) of the Act to determine whether the Cedar Key mole skink (Plestiodon egregius insularis), Florida sandhill crane (Antigone canadensis pratensis), Boechera pusilla (Fremont County rockcress), Eriogonum soredium (Frisco buckwheat), Lepidium ostleri (Ostler's peppergrass), Trifolium friscanum (Frisco clover), MacGillivray's seaside sparrow (Ammodramus maritimus macgillivraii), Ozark pyrg (Marstonia ozarkensis), Sisyrinchium sarmentosum (pale blue-eyed grass), San Joaquin Valley giant flower-loving fly (Rhaphiomidas trochilus), striped newt (Notophthalmus perstriatus), Tinian monarch (Monarcha takatsukasae), and Tippecanoe darter (Etheostoma tippecanoe) meet the definition of “endangered species” or “threatened species,” we considered and thoroughly evaluated the best scientific and commercial information available regarding the past, present, and future stressors and threats. We reviewed the petitions, information available in our files, and other available published and unpublished information. These evaluations may include information from recognized experts; Federal, State, and tribal governments; academic institutions; foreign governments; private entities; and other members of the public.

The species assessment forms for the Cedar Key mole skink, Florida sandhill crane, Fremont County rockcress, Frisco buckwheat, Ostler's peppergrass, Frisco clover, MacGillivray's seaside sparrow, Ozark pyrg, pale blue-eyed grass, San Joaquin Valley giant flower-loving fly, striped newt, Tinian monarch, and Tippecanoe darter contain more detailed biological information, a thorough analysis of the listing factors, and an explanation of why we determined that these species do not meet the definition of an endangered species or a threatened species. This supporting information can be found on the internet at http://www.regulations.gov under the appropriate docket number (see ADDRESSES, above). The following are informational summaries for each of the findings in this document.

Cedar Key Mole Skink

Previous Federal Actions

On July 11, 2012, we received a petition from the Center for Biological Diversity, C. Kenneth Dodd, Jr., Kenney Krysko, Michael J. Lannoo, Thomas Lovejoy, Allen Salzberg, and Edward O. Wilson to list 53 amphibians and reptiles, including the Cedar Key mole skink, as endangered or threatened species under the Act and to designate critical habitat. On July 1, 2015, we published the 90-day finding in the Federal Register (80 FR 37568), concluding that the petition presented substantial information indicating the Cedar Key mole skink may warrant listing. This document constitutes the 12-month finding on the July 11, 2012, petition to list the Cedar Key mole skink under the Act.

Summary of Finding

The Cedar Key mole skink is a shiny brown lizard reaching a total length of approximately 15 centimeters (5.9 inches) with the light pink colored tail accounting for two-thirds of the length. This subspecies is semi-fossorial (adapted to digging, burrowing, and living underground) and cryptic in nature but has also been seen running along the substrate surface when exposed.

The Cedar Key mole skink inhabits the beach berm and dry coastal hammock habitats on eight islands of the Cedar Keys along a 10-mile section of Levy County along Florida's Gulf Coast. The Cedar Key mole skink relies on dry, unconsolidated soils for movement, cover, and nesting.

We evaluated all relevant factors under the five factors, including any regulatory mechanisms and conservation measures ameliorating stressors. The primary stressors include effects of sea-level rise and climate change-associated shifts in rainfall, temperature, and storm intensities. The continued occurrence of the Cedar Key mole skink in low numbers on two of the historically surveyed islands, as well as recent observations on five additional islands, indicates a level of resiliency to the stressors that have been acting upon the subspecies in the past and are currently acting on it. In addition, over time, the subspecies has persisted on multiple islands, providing a level of redundancy that will help the Cedar Key mole skink withstand the potential increased catastrophic events into the future. Finally, the subspecies should continue to exhibit a level of representation with suitable habitat continuing to occur on multiple islands in varying sizes and elevations across the range of the subspecies. In sum, we find that the continued presence of occupied habitat (as well as potentially occupied suitable habitat) and projected continuance of suitable habitat across the subspecies' range continues to provide a level of resiliency, redundancy, and representation to the subspecies such that the Cedar Key mole skink is not presently in danger of extinction throughout all or a significant portion of its range or likely to become so within the foreseeable future. We find that the stressors acting on the subspecies and its habitat, either singly or in combination, are not of sufficient imminence, intensity, or magnitude to indicate that this subspecies meets the definition of an endangered species or a threatened species. Therefore, we find that listing the Cedar Key mole skink as an endangered species or threatened species is not warranted. A detailed discussion of the basis for this finding can be found in the Cedar Key mole skink species assessment form and other supporting documents (see ADDRESSES, above).

Florida Sandhill Crane

Previous Federal Actions

On April 20, 2010, we received a petition from the Center for Biological Diversity, the Alabama Rivers Alliance, the Clinch Coalition, Dogwood Alliance, the Gulf Restoration Network, Tennessee Forests Council, and the West Virginia Highlands Conservancy to list 404 aquatic, riparian, and wetland species, including the Florida sandhill crane, as endangered or threatened species under the Act. On September 27, 2011, we published a 90-day finding in the Federal Register (76 FR 59836), concluding that the petition presented substantial information indicating the Florida sandhill crane may warrant listing. This document constitutes the 12-month finding on the April 20, 2010, petition to list the Florida sandhill crane under the Act.

Summary of Finding

Florida sandhill cranes are graceful, monogamous, long-lived birds in the Gruidae family. This subspecies is one of six that reside in North America, and one of three that are non-migratory. The Florida sandhill crane is a single, large population that ranges from the Okefenokee Swamp in southern Georgia to the Everglades in southern Florida, overlapping with the greater sandhill crane subspecies during the winter season. Both males and females raise one to two chicks per nesting attempt and are able to re-nest two to three times per year, if necessary.

Florida sandhill cranes use a variety of adjacent, open upland habitats, including grasslands, prairies, emergent palustrine wetlands, open pine forests, pastures, and forest-pasture transition areas. They also use the transition areas between wetland and upland habitats, and they feed in human-manipulated environments year-round, such as (but not limited to) agricultural lands, golf courses, airports, and suburban areas.

We evaluated all relevant factors under the five factors, including any regulatory mechanisms and conservation measures ameliorating stressors. The primary threats to the Florida sandhill crane include habitat loss/conversion/degradation, changing climate conditions (drought and precipitation/heavy rain events), and mortalities resulting from predation, collisions, or human interactions/nest disturbances. The most significant of these threats for the long-term persistence of Florida sandhill crane is loss, conversion, or degradation of suitable habitat. Habitat has been lost historically and is expected to be lost or converted into the future. However, the Florida sandhill crane continues to currently occupy its historical range, and is also expected to in the future, albeit as a smaller (i.e., less abundant) population than is currently represented. Its demonstrated ability to adapt to and use agricultural and suburban habitats (e.g., croplands, pastures, golf courses, recreational areas) for breeding, nesting, and feeding activities help ensure its resiliency into the future. Although drought, precipitation changes/events, and direct mortalities will play a role on the species' resource needs and reproductive success, the best available information suggests that any impacts are affecting and likely to affect the subspecies at the individual level as opposed to the population/rangewide level both currently and in the future. Therefore, we find that listing the Florida sandhill crane as endangered or threatened is not warranted. A detailed discussion of the basis for this finding can be found in the Florida sandhill crane species assessment form and other supporting documents (see ADDRESSES, above).

Fremont County Rockcress

Previous Federal Actions

On July 30, 2007, we received a petition from Forest Guardians (now WildEarth Guardians), to list 206 Mountain-Prairie Region species, including the Fremont County rockcress, as endangered or threatened species under the Act. On August 18, 2009, we published a 90-day finding in the Federal Register (74 FR 41649), concluding that the petition presented substantial information indicating the Fremont County rockcress may warrant listing. On June 9, 2011, we published a 12-month finding in the Federal Register (76 FR 33924), concluding that listing the Fremont County rockcress is warranted based on survey information indicating the species was in decline. However, listing the species was precluded at that time by higher priority actions, and the species was added to the candidate species list with a listing priority number of 8. We subsequently addressed the status of the species annually in our candidate notices of review (76 FR 66370, October 26, 2011; 77 FR 69994, November 21, 2012; 78 FR 70104, November 22, 2013; 79 FR 72450, December 5, 2014; 80 FR 80584, December 24, 2015; 81 FR 87246, December 2, 2016). In 2016, we revised the listing priority number from an 8 to an 11 because we found that the threats affecting the species were no longer high in magnitude nor were they imminent, and were instead low in magnitude and non-imminent.

Summary of Finding

The Fremont County rockcress is a narrow endemic perennial herb known to occur on approximately 18 acres (7 hectares) of habitat in the southern foothills of the Wind River Range, Wyoming. The species' habitat consists of sparsely vegetated, course, granite soil pockets in exposed granite-pegmatite (igneous rock solidified from lava or magma) outcrops, and the habitat faces extreme cold temperature and wind conditions. The species is also characterized by its reproductive system, in which individual plants reproduce through asexual seed production.

We evaluated all relevant factors under the five factors, including any regulatory mechanisms and conservation measures ameliorating stressors. To assess the resiliency of the species, we reviewed the abundance of flowering and non-flowering individuals and colonization of populations, which is driven by the species' reproductive system, winter precipitation, soil availability, sunlight, and freedom from competition. Stochastic events such as severe precipitation events, wildfire, and invasions of nonnative, invasive species affect the resiliency of the species. However, we find that there are no stressors currently impacting the species; the species has demonstrated persistence as a narrow endemic; there are protections in place to benefit the species; and its sole occurrence has sufficiently high levels of flowering plant abundance, colonization, and suitable habitat factors.

Considering that Fremont County rockcress presently exhibits high levels of resiliency, and is expected to continue to be resilient within the foreseeable future while retaining sufficient adaptive capacity and the ability to withstand catastrophic events, we find that the species is not presently in danger of extinction throughout all or a significant portion of its range or likely to become so within the foreseeable future. Therefore, we find that listing Fremont County rockcress as an endangered species or threatened species is not warranted. A detailed discussion of the basis for this finding can be found in the Fremont County rockcress species assessment form and other supporting documents (see ADDRESSES, above).

Frisco Buckwheat, Ostler's Peppergrass, and Frisco Clover

Previous Federal Actions

On July 30, 2007, we received a petition from Forest Guardians (now WildEarth Guardians), to list 206 Mountain-Prairie Region species, including the Frisco buckwheat, Ostler's peppergrass, and Frisco clover, as endangered or threatened species under the Act. On August 18, 2009, we published 90-day findings in the Federal Register (74 FR 41649), concluding that the petition presented substantial information indicating the Frisco buckwheat, Ostler's peppergrass, and Frisco clover may warrant listing. On February 23, 2011, we published 12-month findings in the Federal Register (76 FR 10166), concluding that listing the Frisco buckwheat, Ostler's peppergrass, and Frisco clover is warranted primarily due to the threat of habitat destruction from mining activities. However, listing the species was precluded at that time by higher priority actions, and the species were added to the candidate species list with listing priority numbers of 8. We subsequently addressed the status of these species annually in our candidate notices of review (76 FR 66370, October 26, 2011; 77 FR 69994, November 21, 2012; 78 FR 70104, November 22, 2013; 79 FR 72450, December 5, 2014; 80 FR 80584, December 24, 2015; 81 FR 87246, December 2, 2016).

Summary of Finding

The Frisco buckwheat, Ostler's peppergrass, and Frisco clover are rare endemic plants species found only in Utah. These species are addressed here together as they occupy roughly the same area, have similar life histories, and face similar potential threats. Frisco buckwheat and Ostler's peppergrass occur together in three populations, occupying 297 acres (120 hectares) and 153 acres (62 hectares) of habitat, respectively. The Frisco clover is known from six populations and occupies 360 acres (146 hectares) of habitat.

These three species are long-lived perennial plants that flower in the spring and summer months and likely require pollinators for maximum reproduction. Plant survival and successful recruitment require suitable intact soils with microsites for establishment and growth. The low canopy coverage of associated vegetation must result in low plant competition but also appears to provide sufficient floral resources to support pollinators. The health (long-term productivity) of populations is affected by the population size, habitat quantity, and habitat quality available to support stable or increasing populations. In addition to proximity between populations, habitat connectivity is important to support gene flow within populations.

We evaluated all relevant factors under the five factors, including any regulatory mechanisms and conservation measures ameliorating stressors. The primary stressors are precious metal exploration and mining; stone mining; nonnative, invasive species; and climate change. We found that there has been no reduction in redundancy or representation from historic conditions for these species. Currently, there is some stone mining occurring with minimum overlap with the plant populations and no significant impact on current viability. Despite some impacts from mining, invasive species, and climate change, the species are likely to face minimal decreases in population resiliency and minimal reduction in redundancy and representation, with all populations persisting within the foreseeable future. Therefore, we find that listing the Frisco buckwheat, Ostler's peppergrass, and Frisco clover as endangered or threatened is not warranted. A detailed discussion of the basis for this finding can be found in the Frisco buckwheat, Ostler's peppergrass, and Frisco clover species assessment form and other supporting documents (see ADDRESSES, above).

MacGillivray's Seaside Sparrow

Previous Federal Actions

On April 20, 2010, we received a petition from the Center for Biological Diversity, the Alabama Rivers Alliance, the Clinch Coalition, Dogwood Alliance, the Gulf Restoration Network, Tennessee Forests Council, and the West Virginia Highlands Conservancy to list 404 aquatic, riparian, and wetland species, including the MacGillivray's seaside sparrow, as endangered or threatened species under the Act. On September 27, 2011, we published a 90-day finding in the Federal Register (76 FR 59836), concluding that the petition presented substantial information indicating the MacGillivray's seaside sparrow may warrant listing. Subsequently, we entered into a stipulated settlement agreement with the Center for Biological Diversity that required us to submit a 12-month finding to the Federal Register by September 30, 2018. The court later agreed to extend this deadline until December 15, 2018. This document constitutes the 12-month finding on the April 20, 2010, petition to list the MacGillivray's seaside sparrow under the Act.

Summary of Finding

The MacGillivray's seaside sparrow is a subspecies of seaside sparrow that occurs in Atlantic coastal marshes in South Carolina, Georgia, and Florida. The MacGillivray's seaside sparrow is an olive-gray bird with a relatively long bill and short, sharp tail, and the subspecies reaches approximately 14 to 15 centimeters (5.5 to 6 inches) in length.

MacGillivray's seaside sparrows spend their entire life in coastal salt and brackish marshes. The subspecies is currently characterized by four breeding populations. In South Carolina, the subspecies breeds in lower elevation areas of natural high marsh and impoundments; in Georgia, the MacGillivray's seaside sparrow breeds in higher elevation areas of natural low salt marsh. The subspecies needs dense herbaceous cover for nesting and sheltering, and high tide roosting sites in the marsh to evade flooding. Adult MacGillivray's seaside sparrows have behavioral adaptations to balance the trade-off in risk from predation and flooding to nest success, and, therefore, will shift nest-site placement along a nest height gradient to contend with these dual risks.

We evaluated all relevant factors under the five factors, including any regulatory mechanisms and conservation measures ameliorating stressors. The primary stressors are predation, tidal flooding, sea level rise, and increased storm frequency due to climate change. We conclude that the viability of the MacGillivray's seaside sparrow will continue to be characterized by four breeding populations across most of the current range of coastal marshes in South Carolina, Georgia, and Florida in the near term and within the foreseeable future. In addition, although sea level rise will cause the loss of high abundance breeding habitat, the MacGillivray's seaside sparrow will continue to occur in different habitat types and thus will maintain some adaptive capacity in the future.

We find that the stressors acting on the subspecies and its habitat, either singly or in combination, are not of sufficient imminence, intensity, or magnitude to indicate that this subspecies meets the definition of an endangered species or a threatened species. Therefore, we find that listing the MacGillivray's seaside sparrow as endangered or threatened is not warranted. A detailed discussion of the basis for this finding can be found in the MacGillivray's seaside sparrow species assessment form and other supporting documents (see ADDRESSES, above).

Ozark Pyrg

Previous Federal Actions

On April 20, 2010, we received a petition from the Center for Biological Diversity, the Alabama Rivers Alliance, the Clinch Coalition, Dogwood Alliance, the Gulf Restoration Network, Tennessee Forests Council, and the West Virginia Highlands Conservancy to list 404 aquatic, riparian, and wetland species, including the Ozark pyrg, as endangered or threatened species under the Act. On September 27, 2011, we published a 90-day finding in the Federal Register (76 FR 59836), concluding that the petition presented substantial information indicating the Ozark pyrg may warrant listing. This document constitutes the 12-month finding on the April 20, 2010, petition to list the Ozark pyrg under the Act.

Summary of Finding

The Ozark pyrg is a freshwater snail historically found in a shoal of the White River near Cotter, Arkansas, and in the North Fork White River near the confluence. No specific life-history data exist regarding the species' reproduction, diet, age, growth, population size structure, or fecundity. However, many species within the same genus are adapted to springs, ponds, and other sensitive aquatic habitats. Some of these species also show a preference for gravel and pebble substrates and shallower water depths.

Based on extensive surveys between 1915, when the species was first described, and 2010 throughout the range of the species in Arkansas and Missouri that have yielded no specimens, and the extreme modification of the habitat at the species' type locality, the best available science indicates there are no extant populations of the Ozark pyrg. Therefore, we determine the Ozark pyrg to be extinct. As a result, the Ozark pyrg does not meet the statutory definition of either an endangered species or a threatened species and, accordingly, does not warrant listing under the Act. A detailed discussion of the basis for this finding can be found in the Ozark pyrg species assessment form and other supporting documents (see ADDRESSES, above).

Pale Blue-Eyed Grass

Previous Federal Actions

On July 30, 2007, we received a petition from Forest Guardians (now WildEarth Guardians), to list 206 Mountain-Prairie Region species, including the pale blue-eyed grass, as endangered or threatened species under the Act. On August 18, 2009, we published a 90-day finding in the Federal Register (74 FR 41649), concluding that the petition presented substantial information indicating the pale blue-eyed grass may warrant listing. This document constitutes the 12-month finding on the July 30, 2007, petition to list the pale blue-eyed grass under the Act.

Summary of Finding

The pale blue-eyed grass is a long-lived perennial herb in the iris family that produces small, pale blue flowers. The species is a narrow endemic known from a limited area in the Cascade Range of south-central Washington and north-central Oregon. Individual plants need early seral, open habitats with cool temperatures to break seed dormancy, adequate moisture to germinate and establish, and warm sunny days to stimulate flowering. Individual plants need pollinators for sexual exchange of genetic materials and adequate seed set but can reproduce by self-fertilizing and by sprouting rhizomes to reproduce vegetatively. Seeds need a dispersal mechanism that moves them away from the parent plant, thereby reducing intraspecific competition and exposure to pathogens that may have infected older established plants.

For robust resiliency over time, it can be assumed that pale blue-eyed grass populations likely need numerous individuals representing a diversity of genotypes within habitat patches of adequate area, quality, and connectivity to maintain survival and reproduction in spite of disturbance and shifting environmental conditions. Redundant populations across the range are needed to increase the species' chances of surviving catastrophic events. Representation through genetic and environmental diversity within and among populations is necessary to conserve long-term adaptive capability.

We evaluated all relevant factors under the five factors, including any regulatory mechanisms and conservation measures ameliorating stressors. The primary stressors affecting the pale blue-eyed grass' status include grazing, motor vehicles, invasive plants, putative hybridization, camping and recreation, habitat-disturbing management activities, habitat encroachment, and effects of climate change. Despite impacts from these stressors at an individual level, the species has maintained resilient populations. Although we predict some continued impacts from these stressors in the future, we anticipate the species will continue to be viable in resilient populations that are distributed widely throughout both of its representative areas (Washington and Oregon). Therefore, we find that listing the pale blue-eyed grass as an endangered species or threatened species is not warranted. A detailed discussion of the basis for this finding can be found in the pale blue-eyed grass species assessment form and other supporting documents (see ADDRESSES, above).

San Joaquin Valley Giant Flower-Loving Fly

Previous Federal Actions

On June 26, 2014, we received a petition from Gregory R. Ballmer and Kendall H. Osborne to list the San Joaquin Valley giant flower-loving fly as an endangered species under the Act. On April 10, 2015, we published a 90-day finding in the Federal Register (80 FR 19259), concluding that the petition presented substantial information indicating that listing the San Joaquin Valley giant flower-loving fly may be warranted. This document constitutes the 12-month finding on the June 26, 2014, petition to list the San Joaquin Valley giant flower-loving fly under the Act.

Summary of Finding

San Joaquin Valley giant flower-loving fly larvae have small, foot-like protrusions like caterpillars, and grow to about 6.4 centimeters (2.5 inches). They burrow down to moist sands below the surface, where they prey on the burrowing larvae of other insects. After 1 to 2 years, the fly larva produces a pupa, which metamorphoses into an adult. Adults are strong flyers, are 2.5 to 3.5 centimeters (1 to 1.5 inches) long, and live about 3 days. The species' “flight season” lasts about 7 weeks, from mid-August to early October. Males seek potential mates by sight, occasionally defending territories from other males. After mating, females lay eggs in shaded areas, either on the surface of bare sandy soil, or in shallow holes dug into the sand using their abdomens. Eggs likely hatch in about 10 days.

The San Joaquin Valley giant flower-loving fly's known historical range includes eight locations across the San Joaquin Valley, California, but it is now known only from Sand Ridge, a large stable sand dune about 24 kilometers (15 miles) east of Bakersfield, in Kern County, California. For over 20 years prior to discovery of the Sand Ridge population in 1997, the species was thought to be extinct. A second, smaller population was also discovered in 1997, about 16 kilometers (10 miles) south of Bakersfield, but no individuals have been observed there since 2006.

We evaluated all relevant factors under the five factors, including any regulatory mechanisms and conservation measures ameliorating stressors. The primary stressors that may be affecting the species include effects of climate change, urban and agricultural development, sand mining, vegetation overgrowth, small population size, off-highway vehicles, and pesticide drift. Despite the fly being dependent on rare areas of inland dune sand and having lost seven of eight historically known populations, we found that the remaining population provides sufficient resiliency, redundancy, and representation now and in the future. Further, we found that the stressors we assessed are not of sufficient imminence, intensity, or magnitude, either singly or in combination, to indicate that the fly is in danger of extinction throughout all or a significant portion of its range now or in the foreseeable future. Therefore, we find that listing the San Joaquin Valley giant flower-loving fly as an endangered species or threatened species is not warranted. A detailed discussion of the basis for this finding can be found in the San Joaquin Valley giant flower-loving fly species assessment form and other supporting documents (see ADDRESSES, above).

Striped Newt

Previous Federal Actions

On July 14, 2008, we received a petition from Dr. D. Bruce Means, Ryan C. Means, and Rebecca P.M. Means of the Coastal Plains Institute and Land Conservancy, requesting that the striped newt be listed as a threatened species under the Act. On March 23, 2010, we published a 90-day finding in the Federal Register (75 FR 13720), concluding that the petition presented substantial information indicating that listing the striped newt may be warranted. On June 7, 2011, we published a 12-month finding in the Federal Register (76 FR 32911), concluding that listing the striped newt was warranted due to threats associated with habitat loss, disease, drought, and inadequacy of existing regulatory mechanisms to address those threats. However, listing the species was precluded at that time by higher priority actions, and the species was added to the candidate species list with a listing priority number of 8. We subsequently addressed the status of the species annually in our candidate notices of review (76 FR 66370, October 26, 2011; 77 FR 69994, November 21, 2012; 78 FR 70104, November 22, 2013; 79 FR 72450, December 5, 2014; 80 FR 80584, December 24, 2015; 81 FR 87246, December 2, 2016).

Summary of Finding

The striped newt uses ephemeral wetlands and the upland habitat (e.g., scrub, mesic flatwoods, sandhills) that surrounds those wetlands. Striped newts have a lifespan of 12 to 15 years and use aquatic and terrestrial habitats during their complex life cycle. Adult striped newts can occur as both a gilled aquatic form and a terrestrial form.

The current range of the striped newt extends from southern Georgia to north-central Florida, with 105 breeding ponds extant in Florida and 11 in Georgia. Striped newts are divided into two regions: the Eastern Region (peninsular Florida and eastern Georgia) and the Western Region (panhandle Florida and western Georgia). Patterns in precipitation and temperature cause ecological differentiation between these two regions.

We evaluated all relevant factors under the five factors, including any regulatory mechanisms and conservation measures ameliorating stressors. The primary stressors are land use change, fire suppression, effects of climate change, and off-road vehicle impacts. Potential impacts associated with overutilization and predation were also analyzed but found not to affect the species to such an extent that they would have a negative impact on species' viability.

We have concluded that the threats currently impacting the striped newt are of lower magnitude than were previously thought. Furthermore, new populations of striped newt have been discovered since the species was added to the candidate species list, resulting in increased resiliency, redundancy, and representation for the species. Additionally, past conservation efforts, including captive rearing and release of striped newts, have helped reestablish striped newt populations in previously extirpated areas, such as in the Apalachicola National Forest. Finally, 85 percent of striped newt populations currently occur on conserved lands.

Based on the best available information, we find that the striped newt does not meet the definition of an endangered species or threatened species. Therefore, we find that listing the striped newt as an endangered species or threatened species is not warranted. A detailed discussion of the basis for this finding can be found in the striped newt species assessment form and other supporting documents (see ADDRESSES, above).

Tinian Monarch

Previous Federal Actions

On December 12, 2013, we received a petition from the Center for Biological Diversity requesting that the Tinian monarch be listed as an endangered or threatened species under the Act. On September 18, 2015, we published a 90-day finding in the Federal Register (80 FR 56423), concluding that the petition presented substantial information indicating that listing the Tinian monarch may be warranted. This document constitutes the 12-month finding on the December 12, 2013, petition to list the Tinian monarch under the Act.

Summary of Finding

The Tinian monarch is a small flycatcher bird about 15 centimeters (6 inches) bill to tail. Tinian monarchs are dull with light rufous underparts, olive-brown upperparts, and dark chocolate brown wings and tail. This species is endemic to the island of Tinian, which is part of the Northern Mariana Islands in the western Pacific Ocean.

The Tinian monarch lives mainly in forested habitat where it shelters, breeds, and forages for insects. There are various types of forest on Tinian including native limestone, secondary-mixed, and nonnative tangantangan forest, all of which are inhabited by the monarch. Individuals breed year round beginning at about 2 years of age and live around 10 years.

We evaluated all relevant factors under the five factors, including any regulatory mechanisms and conservation measures ameliorating stressors. The primary potential stressors affecting the Tinian monarch include the risk of the invasive, predatory brown treesnake establishing on Tinian and habitat loss from civilian and military development, including loss via potential resulting wildfires. We find that the risk of brown treesnake establishing on Tinian now and in the future is low, because of the sufficient interdiction program on Guam and Tinian that prevents the spread of the snake to areas where it is not found, including Tinian. We also find that despite extensive historical impacts to Tinian's forest habitat, the Tinian monarch is currently thriving. This is the result of expansive forest regrowth and the species' highly resilient nature, which is evidenced by its rebound following historical periods of habitat loss and by its ability to forage and reproduce within the remaining native forest, abundant nonnative forest, and mixed forest on Tinian. Therefore, we find that listing the Tinian monarch as an endangered species or threatened species is not warranted. A detailed discussion of the basis for this finding can be found in the Tinian monarch species assessment form and other supporting documents (see ADDRESSES, above).

Tippecanoe Darter

Previous Federal Actions

On April 20, 2010, we received a petition from the Center for Biological Diversity, the Alabama Rivers Alliance, the Clinch Coalition, Dogwood Alliance, the Gulf Restoration Network, Tennessee Forests Council, and the West Virginia Highlands Conservancy to list 404 aquatic, riparian, and wetland species, including the Tippecanoe darter, as endangered or threatened species under the Act. On September 27, 2011, we published a 90-day finding in the Federal Register (76 FR 59836), concluding that the petition presented substantial information indicating that listing the Tippecanoe darter may be warranted. This notice constitutes the 12-month finding on the April 20, 2010, petition to list the Tippecanoe darter under the Act.

Summary of Finding

The Tippecanoe darter is one of the smallest species of darters (35 millimeters (1.38 inches) in length). Males are distinguished by their gold or orange color with blue-black vertical bars, while females are more subdued in color. The fish has a relatively widespread, disjunct distribution with 12 of its 15 historical populations extant across six States: Indiana, Kentucky, Ohio, Pennsylvania, Tennessee, and West Virginia. The species is expanding its range in some areas.

Tippecanoe darters inhabit fourth-order and larger streams and rivers, and prefer riffles and runs with rocky bottom substrates and adequate water flow to keep spaces between and under rocks free from sediment. Individuals are mature within their first year, spawn in May to early August, and live to between 1 and 2 years of age.

We evaluated all relevant factors under the five factors, including any regulatory mechanisms and conservation measures ameliorating stressors. The primary stressors affecting the Tippecanoe darter include habitat fragmentation from dams and impairments to water quality, including sedimentation and agricultural and urban runoff. Despite impacts from these stressors, the species has maintained resilient populations and is increasing occupancy in some reaches, likely due to improved water quality or improved survey techniques. Although we predict some continued impacts from these stressors in the future, we anticipate the species will persist in resilient populations that are distributed widely throughout each of its representative physiographic provinces.

In summary, we find that the stressors acting on the species and its habitat, either singly or in combination, are not of sufficient imminence, intensity, or magnitude to indicate that this species meets the definition of an endangered species or a threatened species. Therefore, we find that listing the Tippecanoe darter as an endangered species or threatened species is not warranted. A detailed discussion of the basis for this finding can be found in the Tippecanoe darter species assessment form and other supporting documents (see ADDRESSES, above).

New Information

We request that you submit any new information concerning the taxonomy of, biology of, ecology of, status of, or stressors to the Cedar Key mole skink, Florida sandhill crane, Fremont County rockcress, Frisco buckwheat, Ostler's peppergrass, Frisco clover, MacGillivray's seaside sparrow, Ozark pyrg, pale blue-eyed grass, San Joaquin Valley giant flower-loving fly, striped newt, Tinian monarch, and Tippecanoe darter to the appropriate person, as specified under FOR FURTHER INFORMATION CONTACT, whenever it becomes available. New information will help us monitor these species and make appropriate decisions about their conservation and status. We encourage local agencies and stakeholders to continue cooperative monitoring and conservation efforts.

References Cited

Lists of the references cited in the petition findings are available on the internet at http://www.regulations.gov in the dockets provided above in ADDRESSES and upon request from the appropriate person, as specified under FOR FURTHER INFORMATION CONTACT.

Authors

The primary authors of this document are the staff members of the Species Assessment Team, Ecological Services Program.

Authority

The authority for this action is section 4 of the Endangered Species Act of 1973, as amended (16 U.S.C. 1531 et seq.).

Dated: December 7, 2018.
Margaret E. Everson,
Principal Deputy Director, U.S. Fish and Wildlife Service, Exercising the Authority of the Director, U.S. Fish and Wildlife Service.

[FR Doc. 2018-27467 Filed 12-18-18; 8:45 am]

BILLING CODE 4333-15-P